SMALL BUSINESS ADMINISTRATION

[Declaration of Disaster #3512, Amdt. 6]

State of West Virginia

In accordance with the notice received from the Department of Homeland Security—Federal Emergency Management Agency, effective July 21, 2003, the above numbered declaration is hereby amended to include Preston County in the State of West Virginia as a disaster area due to damages caused by severe storms, flooding, and landslides beginning on June 11, 2003 and continuing through July 15, 2003.

In addition, applications for economic injury loans from small businesses located in the contiguous counties of Grant and Tucker in the State of West Virginia; and Garrett County in the State of Maryland may be filed until the specified date at the previously designated location. All other counties contiguous to the above named primary counties have been previously declared.

All other information remains the same, i.e., the deadline for filing applications for physical damage is August 20, 2003, and for economic injury the deadline is March 22, 2004.

(Catalog of Federal Domestic Assistance Program Nos. 59002 and 59008)
Dated: July 23, 2003.
Herbert L. Mitchell,
Associate Administrator for Disaster Assistance.

[FR Doc. 03-19263 Filed 7-28-03; 8:45 am]

BILLING CODE 8025-01-P